DEPARTMENT OF ENERGY

Office of Energy Efficiency and Renewable Energy

Request for Information; Assisting Federal Facilities With Energy Conservation Technologies, Fiscal Year 2015

AGENCY: Office of Energy Efficiency and Renewable Energy, Department of Energy (DOE).

ACTION: Request for Information (RFI) and public comment.

SUMMARY: The Department of Energy (DOE) today invites public comment on its Request for Information (RFI) number DE-FOA-0001203 regarding “Assisting Federal Facilities with Energy Conservation Technologies Fiscal Year 2015.” The RFI document is posted at https://eere-exchange.energy.gov/.

EERE intends to issue, on behalf of the U.S. Department of Energy (DOE) Federal Energy Management Program (FEMP), a Funding Opportunity Announcement (FOA) entitled “Assisting Federal Facilities with Energy Conservation Technologies Fiscal Year 2015 (AFFECT 2015).” This RFI seeks input from interested parties and stakeholders regarding the subject of the anticipated FOA and related details. If the FOA is issued, it will likely provide grants to Federal agencies for renewable energy projects that are incorporated into a privately financed performance contract, such as an Energy Savings Performance Contract or Utility Energy Service Contract, or as part of a renewable energy Power Purchase Agreement (PPA). Applications for renewable energy projects that are financed through appropriations will also be considered. If the FOA is issued, it will be released at some point in Fiscal Year 2015, which began October 1, 2014 and ends September 30, 2015.

This is solely a Request for Information and not a Funding Opportunity Announcement (FOA). EERE is not accepting applications.

DATES: Responses to the RFI must be received by November 13, 2014.

ADDRESSES: The complete RFI document is located at https://eere-exchange.energy.gov/.

FOR FURTHER INFORMATION CONTACT: Responses to the RFI should be sent via email or email attachment to rfi.affect2015@hq.doe.gov. Further instruction can be found in the RFI document posted on EERE Exchange.

SUPPLEMENTARY INFORMATION: This RFI is not a Funding Opportunity Announcement (FOA); therefore, EERE is not accepting applications at this time. EERE may issue a FOA in the future based on or related to the content and responses to this RFI; however, EERE may also elect not to issue a FOA. There is no guarantee that a FOA will be issued as a result of this RFI. Responding to this RFI does not provide any advantage or disadvantage to potential applicants if EERE chooses to issue a FOA regarding the subject matter. Final details, including the anticipated award size, quantity, and timing of EERE funded awards, will be subject to Congressional appropriations and direction.

Any information obtained as a result of this RFI is intended to be used by the Government on a non-attribution basis for planning and strategy development; this RFI does not constitute a formal solicitation for proposals or abstracts. Your response to this notice will be treated as information only. EERE will review and consider all responses in its formulation of program strategies for the identified materials of interest that are the subject of this request. EERE will not provide reimbursement for costs incurred in responding to this RFI. Respondents are advised that EERE is under no obligation to acknowledge receipt of the information received or provide feedback to respondents with respect to any information submitted under this RFI. Responses to this RFI do not bind EERE to any further actions related to this topic.

Issued on October 9, 2014.
Timothy D. Unruh,
Director, Federal Energy Management Program, Energy Efficiency and Renewable Energy.

[FR Doc. 2014-24867 Filed 10-17-14; 8:45 am]

BILLING CODE 6450-01-P